DEPARTMENT OF THE INTERIOR

Bureau of Land Management

[AK-933-1430-ET; AA-40482]

Public Land Order No. 7529; Partial Revocation of Departmental Order dated May 14, 1929, as Modified; Alaska

AGENCY: Bureau of Land Management, Interior.

ACTION: Public Land Order.

SUMMARY: This order revokes a Departmental Order, insofar as it affects approximately 1,892 acres of land withdrawn for Power Site Classification No. 221 at Lake Kathleen. The land is no longer needed for the purpose for which it was withdrawn. The land is within the Tongass National Forest, and is part of the Admiralty Island National Monument Wilderness. Approximately 926.57 acres have been conveyed out of Federal ownership.

EFFECTIVE DATE: July 26, 2002.

FOR FURTHER INFORMATION CONTACT: Susan J. Lavin, Bureau of Land Management Alaska State Office, 222 W. 7th Avenue, No. 13, Anchorage, Alaska 99513-7599, 907-217-5477.

SUPPLEMENTARY INFORMATION: By virtue of the authority vested in the Secretary of the Interior by Section 204 of the Federal Land Policy and Management Act of 1976, 43 U.S.C. 1714 (1994), it is ordered as follows:

1. Departmental Order dated May 14, 1929, as modified, which withdrew National Forest System land for Power Site Classification No. 221 in the Lake Kathleen area, is hereby revoked insofar as it affects the following described land:

Copper River Meridian

Tongass National Forest

All lands below an altitude of 500 feet above sea level adjacent to Lake Kathleen and the stream which is its outlet. The outlet stream of Lake Kathleen enters a small bight called Jima Cove in approximate latitude 57°53½′ N., longitude 134°44′ W., and more particularly described in the U.S. Geological Survey Interpretation No. 247 dated January 20, 1936, as:

T. 46 S., R. 66 E., sec. 9, lots 1 to 5, inclusive, and E½; sec. 16, NE¼NE¼; and All unsurveyed lands within ¼ mile of Lake Kathleen, and all unsurveyed lands within ¼ mile on the south side of the stream which is its outlet, and all unsurveyed lands between said outlet stream and the projection east to Lake Kathleen of the line constituting the north boundary of section 9.

The area described contains approximately 1,892 acres.

2. The National Forest System land will remain withdrawn as part of the Tongass National Forest, and the Admiralty Island National Monument Wilderness pursuant to Section 703(a)(1) of the Alaska National Interest Lands Conservation Act, 16 U.S.C. 1132 (1994). This action is for record clearing purposes as to those lands that have been conveyed out of Federal ownership.

Dated: July 2, 2002.
Rebecca W. Watson,
Assistant Secretary—Land and Minerals Management.

[FR Doc. 02-18893 Filed 7-25-02; 8:45 am]

BILLING CODE 4310-JA-P